NATIONAL TRANSPORTATION SAFETY BOARD

49 CFR Part 803

[Docket No.: NTSB-2023-0006]

RIN 3147-AA27

Official Seal Description

AGENCY: National Transportation Safety Board (NTSB).

ACTION: Final rule.

SUMMARY: The National Transportation Safety Board (NTSB) is amending its regulatory description of the agency's seal. Since the seal's inception, the agency has utilized various versions of the seal. For consistency, the agency is updating the regulation and codifying current agency practice. These updates will provide a revised graphical representation of the seal. Additionally, the NTSB is including non-substantive technical amendments throughout part 803 due to recent internal organizational changes and a typographical error reflected in the agency's mailing address. Since publishing the notice of proposed rulemaking (NPRM), no comments have been received.

DATES: The rule is effective November 6, 2023.

FOR FURTHER INFORMATION CONTACT: William T. (Tom) McMurry, Jr., General Counsel, (202) 314-6080, rulemaking@ntsb.gov.

SUPPLEMENTARY INFORMATION:

I. Background

In 1975, the NTSB adopted an official seal as authorized by the Independent Safety Board Act of 1974 (Act), and codified the seal in part 803 of its regulations titled “Official Seal.” 40 FR 30232 (July 17, 1975). The adoption at that time marked the NTSB's status as an independent Federal agency. 43 FR 36454 (Aug. 17, 1978). The original seal design was that of a triskelion, which was later replaced by the American bald eagle as set forth in the NTSB's final rule. 43 FR 36454. The NTSB explained that the eagle was “adopted in the interest of ready recognition of the Board's status as an independent agency of the Federal Government charged with the investigation of transportation accidents.” Id. The agency continued, “it is imperative that Board officials be readily recognized as agents of the U.S. Government . . . .” Id.

Over thirty years later, the NTSB published its Plan for Retrospective Analysis of Existing Rules per two Executive orders that altogether advised agencies to conduct such an analysis. 77 FR 37865, 37866 (June 25, 2012). After reviewing public comments, the NTSB subsequently announced its plan to update the agency's regulations, which included part 803. 78 FR 1193 (Jan. 8, 2013). However, in the final rule, the NTSB ultimately amended certain sections of part 803, but did not revise the description of the seal found in § 803.1. See 81 FR 75729 (Nov. 1, 2016). Thus, the NTSB's current seal has been in effect for more than 40 years.

On July 6, 2023, the agency issued an NPRM announcing its intent to amend its regulatory description of the NTSB's seal by updating the regulation and codifying current agency practice. 88 FR 43070 (July 6, 2023). The NTSB received no comments to date and is issuing this final rule as a result.

II. Changes to § 803.1

Since the last revision of § 803.1 in August 1978, the NTSB has utilized various versions of the seal within the agency. For consistency, the NTSB is codifying what has evolved as standard agency practice. This change to update § 803.1 focuses on additional options for background colors and will provide a revised graphical representation of the seal.

While respecting the current NTSB seal, the agency is slightly modifying the design to make the seal digitally applicable. For example, the digital version of the current seal alters in appearance when applied to the NTSB uniform; specifically, the current font changes when the seal is affixed to clothing. Thus, the update to the design optimizes the seal, making it compatible with digital platforms.

Over the years, various versions of the seal have been recognized within the agency, but have never been codified; that recognition is now reflected in this final rule. The agency clarifies that when the full color seal is used in print or digital media, the seal must be in a white circle. When the full color seal is embroidered on the official NTSB uniform, the seal's background color must be that of the material of the uniform.

Also, this final rule updates the regulatory description to reflect modern times. The NTSB will now use gender-neutral language to refer to the eagle. Further, the agency will replace the Latin terms “dexter” and “sinister” with “right” and “left”, respectively.

Additionally, the minor alteration of the NTSB's eagle will be more consistent with the Federal Government's official American eagle. The inscriptions encircling the NTSB's eagle—“E Pluribus Unum” and “National Transportation Safety Board”—will be updated from Serif font to Sans Serif font.

A side-by-side comparison of the NTSB's current and updated versions of the seals appears below, respectively:

III. Technical Amendments

In 2022, the NTSB made organizational changes to its Office of the Administration, which the agency renamed as the Office of Human Capital Management and Training (HCT). The head of HCT is the Chief Human Capital Officer, who now has custody and control of the seal. Accordingly, due to this reorganization, the NTSB is including non-substantive technical amendments throughout part 803 to reflect the change in the agency's office designation. Thus, the agency is revising all references to the “Director, Office of Administration” with “Chief Human Capital Officer” in §§ 803.3 and 803.5.

Additionally, the agency is correcting a typographical error reflected in the zip code of the NTSB's mailing address.

IV. Regulatory Analysis

Because the NTSB is an independent agency, this final rule does not require an assessment of its potential costs and benefits under section 6(a)(3) of Executive Order (E.O.) 12866, Regulatory Planning and Review, 58 FR 51735 (Sept. 30, 1993). In addition, the NTSB has considered whether this final rule would have a significant economic impact on a substantial number of small entities, under the Regulatory Flexibility Act (5 U.S.C. 601-612). The NTSB certifies under 5 U.S.C. 605(b) that this final rule would not have a significant economic impact on a substantial number of small entities.

The NTSB does not anticipate this final rule will have a substantial, direct effect on state or local governments or will preempt state law; as such, this final rule does not have implications for federalism under E.O. 13132, Federalism, 64 FR 43255 (Aug. 4, 1999).

This final rule complies with all applicable standards in sections 3(a) and 3(b)(2) of E.O. 12988, Civil Justice Reform, 61 FR 4729 (Feb. 5, 1996), to minimize litigation, eliminate ambiguity, and reduce burden. The NTSB has evaluated this final rule under: E.O. 12630, Government Actions and Interference with Constitutionally Protected Property Rights; E.O. 12898, Federal Actions to Address Environmental Justice in Minority Populations and Low-Income Populations, 59 FR 7629 (Feb. 16, 1994); E.O. 13045, Protection of Children from Environmental Health Risks and Safety Risks, 62 FR 19885 (Apr. 21, 1997); E.O. 13175, Consultation and Coordination with Indian Tribal Governments, 65 FR 67249 (Nov. 6, 2000); E.O. 13211, Actions Concerning Regulations That Significantly Affect Energy Supply, Distribution, or Use, 66 FR 28355 (May 18, 2001); and the National Environmental Policy Act, 42 U.S.C. 4321-47. Pursuant to the Paperwork Reduction Act, the NTSB has determined that there is no new requirement for information collection associated with this final rule. The NTSB has concluded that this final rule neither violates nor requires further consideration under those orders, statutes, E.O.s, and acts.

List of Subjects in 49 CFR Part 803

Seals and insignia.

Accordingly, for the reasons stated in the preamble, the NTSB amends 49 CFR part 803 as follows:

PART 803—OFFICIAL SEAL

1. The authority citation for part 803 continues to read as follows:

Authority: 49 U.S.C. 1111(j), 1113(f).

2. Revise § 803.1 to read as follows:

§ 803.1 Description.

The official seal of the National Transportation Safety Board (NTSB) is described as follows: An American bald eagle with wings displayed, holding an olive branch in its right talon and a bundle of 13 arrows in its left talon. Above the eagle's head is a white scroll inscribed “E Pluribus Unum” in black. The eagle bears a shield that resembles the United States flag with vertical stripes of alternating white and red and a blue top; all are within an encircling inscription, “National Transportation Safety Board”. The eagle's wings, body, and upper portion of the legs are shades of brown. The head, neck, and tail are white. The beak, lower portion of the legs, feet, arrows, olive branch, and encircling inscription are gold. When the full color seal is illustrated on print or digital media, the background of the seal must be white. When the full color seal is embroidered on official NTSB uniform items, the seal's background must be the color of the material. When the monochrome seal is used on print or digital media, the seal can be displayed in black, blue, or in white on contrasting background. When used on official NTSB uniform items, the monochrome seal can be illustrated in yellow-gold on navy blue material. The monochrome version of the NTSB's official seal appears in Figure 1.

Figure 1 to § 803.1

§ 803.3 [Amended]

3. Amend § 803.3 by:

a. In paragraph (a), removing “Director, Office of Administration” and adding in its place “Chief Human Capital Officer”; and

b. In paragraph (b), removing “Director, Office of Administration” and adding in its place “Chief Human Capital Officer”.

§ 803.5 [Amended]

4. Amend § 803.5, in paragraph (c), by removing “Director, Office of Administration” and “20594-003” and adding in their place “Chief Human Capital Officer” and “20594”, respectively.

William T. McMurry, Jr.,
General Counsel.

[FR Doc. 2023-22193 Filed 10-4-23; 8:45 am]

BILLING CODE 7533-01-P